NATIONAL TRANSPORTATION SAFETY BOARD

Sunshine Act Meeting Notice

Time and Date: 9:30 a.m., Thursday, July 26, 2007.

Place: NTSB Conference Center, 429 L'Enfant Plaza, SW., Washington, DC 20594.

Status: The one item is open to the public.

Matter to be Considered:

7838D Aviation Accident Report—Attempted Takeoff from Wrong Runway, Comair Flight 5191, Bombardier CL-600-2B19, N431CA, Lexington, Kentucky, August 27, 2006.

News Media Contact: Telephone: (202) 314-6100.

Individuals requesting specific accommodations should contact Chris Bisett (202) 314-6305 by Friday, July 20, 2007.

The public may view the meeting via a live or archived webcast by accessing a link under “News & Events” on the NTSB home page at www.ntsb.gov.

FOR FURTHER INFORMATION CONTACT: Vicky D'Onofrio, (202) 314-6410.

Dated: July 13, 2007.
Vicky D'Onofrio,
Federal Register Liaison Officer.

[FR Doc. 07-3491 Filed 7-13-07; 1:34 pm]

BILLING CODE 7533-01-M